INTERNATIONAL TRADE COMMISSION

[Investigation No. 731-TA-244 (Third Review)]

Natural Bristle Paint Brushes From China

AGENCY: United States International Trade Commission.

ACTION: Revised schedule for the subject review.

DATES: Effective Date: June 30, 2010.

FOR FURTHER INFORMATION CONTACT: Keysha Martinez (202-205-2136), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

SUPPLEMENTARY INFORMATION: Effective April 15, 2010, the Commission established a schedule for the conduct of a full five-year review concerning the antidumping duty order on natural bristle paint brushes from China (75 FR 21347, April 23, 2010). On April 23, 2010, the domestic interested parties withdrew their participation in the Commission's review. On May 7, 2010, the U.S. Department of Commerce received a request for a changed circumstances review to revoke the antidumping duty order based on an expression of no interest. Commerce published its notice of initiation and preliminary results of the changed circumstances review as well as its intent to revoke the order on June 16, 2010 (75 FR 34097). In light of these developments, the Commission is revising its schedule. The Commission has determined to exercise its authority to extend the review period by up to 90 days pursuant to 19 U.S.C. 1675(c)(5)(B).

The Commission's new schedule for the subject review is as follows: The prehearing staff report will be placed in the nonpublic record on November 17, 2010; the deadline for filing prehearing briefs is November 24, 2010; requests to appear at the hearing must be filed with the Secretary to the Commission not later than November 26, 2010; the prehearing conference will be held at the U.S. International Trade Commission Building at 9:30 a.m. on December 1, 2010; the hearing will be held at the U.S. International Trade Commission Building at 9:30 a.m. on December 2, 2010; the deadline for filing posthearing briefs is December 9, 2010; the Commission will make its final release of information on January 4, 2011; and final party comments are due on January 6, 2011.

For further information concerning this review see the Commission's notice cited above and the Commission's Rules of Practice and Procedure, part 201, subparts A through E (19 CFR part 201), and part 207, subparts A and C (19 CFR part 207).

Authority: This review is being conducted under authority of title VII of the Tariff Act of 1930; this notice is published pursuant to section 207.21 of the Commission's rules.

Issued: July 6, 2010.
By order of the Commission.
Marilyn R. Abbott,
Secretary to the Commission.

[FR Doc. 2010-16844 Filed 7-9-10; 8:45 am]

BILLING CODE 7020-02-P